NATIONAL FOUNDATION ON THE ARTS AND THE HUMANITIES

National Endowment for the Arts; Arts Advisory Panel

Pursuant to section 10(a)(2) of the Federal Advisory Committee Act (Pub. L. 92-463), as amended, notice is hereby given that six meetings of the Arts Advisory Panel to the National Council on the Arts will be held at the Nancy Hanks Center, 1100 Pennsylvania Avenue, NW., Washington, DC 20506 as follows (ending times are approximate):

Musical Theater (application review): June 26-27, 2006 in Room 714. This meeting, from 9 a.m. to 5:30 p.m. on June 26th and from 9 a.m. to 12 p.m. on June 27th, will be closed.

Theater (application review): June 27-30, 2006 in Room 714. This meeting, from 1 p.m. to 5:30 p.m. on May 31st, from 9 a.m. to 6 p.m. on June 1st, and from 9 a.m. to 1 p.m. on June 27th, from 9 a.m. to 5:30 p.m. on June 28th and June 29th, and from 9 a.m. to 3 p.m. on June 30th, will be closed.

Dance (application review): July 17-21, 2006 in Room 716. This meeting, from 9 a.m. to 6 p.m. on July 17th, 18th, 19th, and 20th, and from 9 a.m. to 3:30 p.m. on July 21st, will be closed.

Presenting (application review): July 24, 2006 in Room 716. This meeting, from 9 a.m. to 4 p.m., will be closed.

Design (application review): July 25, 2006 in Room 716. This meeting, from 9 a.m. to 5:30 p.m., will be closed.

Presenting (application review): July 25-28, 2006 in Room 716. A portion of this meeting, from 10:45 a.m. to 11:45 a.m. on July 28th, will be open to the public for policy discussion. The remainder of the meeting, from 9 a.m. to 5:30 p.m. on July 25th and 26th, from 9 a.m. to 5 p.m. on July 27th, and from 9 a.m. to 10:45 a.m. and from 11:45 a.m. to 1:45 p.m. on July 28th, will be closed.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Any person may observe meetings, or portions thereof, of advisory panels that are open to the public, and if time allows, may be permitted to participate in the panel's discussions at the discretion of the panel chairman. If you need special accommodations due to a disability, please contact the Office of AccessAbility, National Endowment for the Arts, 1100 Pennsylvania Avenue, NW., Washington, DC 20506, 202-682-5532, TDY-TDD 202-682-5496, at least seven (7) days prior to the meeting.

Further information with reference to these meetings can be obtained from Ms. Kathy Plowitz-Worden, Office of Guidelines & Panel Operations, National Endowment for the Arts, Washington, DC 20506, or call 202-682-5691.

Dated: June 6, 2006.
Kathy Plowitz-Worden,
Panel Coordinator, Panel Operations, National Endowment for the Arts.

[FR Doc. E6-9045 Filed 6-9-06; 8:45 am]

BILLING CODE 7537-01-P